INTERNATIONAL TRADE COMMISSION

[Investigation Nos. 701-TA-465 and 731-TA-1161 (Review)]

Certain Steel Grating From China

Determinations

On the basis of the record¹ developed in these subject five-year reviews, the United States International Trade Commission (“Commission”) determines, pursuant to the Tariff Act of 1930, that revocation of the countervailing duty order and antidumping duty order would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on June 1, 2015 (80 FR 31071) and determined on September 4, 2015 that it would conduct expedited reviews (80 FR 57387, September 23, 2015).

The Commission made these determinations pursuant to section 751(c) of the Tariff Act of 1930 (19 U.S.C. 1675(c)). It completed and filed its determinations in these reviews on October 29, 2015. The views of the Commission are contained in USITC Publication 4578 (October 2015), entitled Certain Steel Grating from China: Investigation Nos. 701-TA-465 and 731-TA-1161 (Review).

By order of the Commission.
Dated: October 29, 2015.
Lisa R. Barton,
Secretary to the Commission.

[FR Doc. 2015-28018 Filed 11-3-15; 8:45 am]

BILLING CODE 7020-02-P